SECURITIES AND EXCHANGE COMMISSION

Submission for OMB Review; Comment Request

Upon Written Request; Copies Available From: Securities and Exchange Commission, Office of Filings and Information Services, Washington, DC 20549

Extension:

Regulation 12B, OMB Control No. 3235-0062, SEC File No. 270-70

Form 15, OMB Control No. 3235-0167, SEC File No. 270-170

Form F-4, OMB Control No. 3235-0325, SEC File No. 270-288

Notice is hereby given that, pursuant to the Paperwork Reduction Act of 1995 (44 U.S.C. 3501 et seq.) the Securities and Exchange Commission (“Commission”) has submitted to the Office of Management and Budget requests for extension of the previously approved collections of information discussed below.

Regulation 12B includes rules governing Securities Exchange Act of 1934 (“Exchange Act”) registration statements and reports. The purpose of the regulation is to set forth guidelines for the uniform preparation of Exchange Act documents. All information is provided to the public for review. The information required is filed on occasion and is mandatory. Regulation 12B is assigned one burden hour for administrative convenience because the regulation simply prescribes the disclosure that must appear in other filings under the federal securities laws. Finally, persons who respond to the collection of information prescribed to in Regulation 12B are not required to respond unless the collection of information displays a currently valid control number.

Form 15 is a certification of termination of a class of security under Section 12(g) or notice of suspension of duty to file reports pursuant to Sections 13 and 15(d) of the Securities Exchange Act of 1934. The information collected is to inform the public when a registrant does not file periodic reports. All information is provided to the public for review. Approximately 2,000 issuers file Form 15 annually and it takes approximately a total of 1.5 hours per response for a total of 3,000 annual burden hours. Finally, persons who respond to the collection of information contained in Form 15 are not required to respond unless the form displays a currently valid control number.

Form F-4 is used by foreign issuers to register securities in business combinations, reorganizations and exchange offers pursuant to federal securities laws. If the information disclosed on Form F-4 were not required, the objectives of the Securities Act would not be met. The information required is filed on occasion and is mandatory. All information is provided to the public for review. Form F-4 is filed by foreign issuers. Form F-4 takes approximately 1,311 hours per response to prepare and is filed by 450 respondents. It is estimated that 50% of the 589,950 total burden hours (294,975 hours) would be prepared by the company. Finally, persons who respond to the collection of information contained in Form F-4 are not required to respond unless the form displays a currently valid control number.

Written comments regarding the above information should be directed to the following persons: (i) Desk Officer for the Securities and Exchange Commission, Office of Information and Regulatory Affairs, Office of Management and Budget, Room 10102, New Executive Office Building, Washington, DC 20503; and (ii) Michael E. Bartell, Associate Executive Director, Office of Information Technology, Securities and Exchange Commission, 450 Fifth Street, NW., Washington, DC 20549. Comments must be submitted to OMB within 30 days of this notice.

Dated: August 21, 2001.
Jonathan G. Katz,
Secretary.

[FR Doc. 01-21788 Filed 8-28-01; 8:45 am]

BILLING CODE 8010-01-M